ENVIRONMENTAL PROTECTION AGENCY

[FRL-6861-4]

Solicitation Notice: Environmental Education Grants Program; Fiscal Year 2001

Contents

Section I—Overview and Deadlines

Section II—Eligible Applicants and Activities

Section III—Funding Priorities

Section IV—Requirements for Proposals & Matching Funds

Section V—Review and Selection Process

Section VI—Grantee Responsibilities

Section VII—Resource Information & Mailing List

Appendices—Federal Forms and Instructions

Section I.—Overview and Deadlines

A. Purpose of Solicitation

This document solicits grant proposals from education institutions, environmental and educational public agencies, and not-for-profit organizations to support environmental education projects, as defined in this notice. This solicitation notice contains all the information and forms necessary to prepare a proposal. If your project is selected as a finalist after the evaluation process is concluded, EPA will provide you with additional Federal forms needed to process your proposal. These grants require non-federal matching funds for at least 25% of the total cost of the project.

The Environmental Education Grants Program provides financial support for projects which design, demonstrate, or disseminate environmental education practices, methods, or techniques, including assessing environmental and ecological conditions or specific environmental issues or problems. This program is authorized under Section 6 of the National Environmental Education Act of 1990 (the Act) (Pub. L. 101-619).

B. Environmental Education versus Environmental Information

Environmental Education: Increases public awareness and knowledge about environmental issues and provides the skills to make informed decisions and take responsible actions. It does not advocate a particular viewpoint or course of action. It teaches individuals how to weigh various sides of an issue through critical thinking and it enhances their own problem-solving skills.

Environmental Information: Proposals that simply disseminate “information” will not be funded. These would be projects that provide facts or opinions about environmental issues or problems, but may not enhance critical-thinking, problem solving or decision-making skills. Although information is an essential element of any educational effort, environmental information is not, by itself, environmental education.

C. Due Date and Grant Schedule

(1) Due Date—November 15, 2000. This is the postmark due date for an original proposal signed by an authorized representative plus one copy to be mailed to EPA. Proposals mailed or sent after this date will not be considered for funding.

(2) Rejection Letters—EPA Headquarters and 10 Regional Offices send these out at different times as determined by scheduling to accommodate review teams. Letters are usually sent between April and June.

(3) Start Date for Projects—July 1, 2001 is the earliest start date that applicants should plan on and enter on their application forms and timelines.

D. Addresses for Mailing Proposals

Proposals requesting over $25,000 in Federal environmental education grant funds must be mailed to EPA Headquarters in Washington, DC; proposals requesting $25,000 or less must be mailed to the EPA Regional Office where the project takes place. The Headquarters address and the list of Regional Office mailing addresses by state is included at the end of this notice.

E. Funding Limits Per Proposal

EPA anticipates funding of less than $3 million for this annual grant cycle, subject to appropriations and the availability of funds. Since implementation of this grants program in 1992, there has been a great deal of public enthusiasm for developing environmental education projects. Consequently, EPA has consistently received many more applications for these grants than can be supported with available funds. The competition for grants is intense, especially at Headquarters which usually receives about 250 proposals and is able to fund less than 5% of the applicants. Regional offices generally fund about 15% of proposals seeking over $5,000 and more than 30% of proposals for $5,000 or less.

Grants in excess of $150,000 have seldom been awarded through this program. Although the Act sets a maximum limit of $250,000 in environmental education grant funds for any one project, because of limited funds, EPA prefers to award smaller grants to more recipients. Also, Congress requires that at least 25% of available funds go to small grants of $5,000 or less. In summary, you will significantly increase your chance of being funded if you request $5,000 or less from a Regional Office or $100,000 or less from Headquarters.

Section II.—Eligible Applicants and Activities

F. Eligible Applicants

Any local education agency, state education or environmental agency, college or university, not-for-profit organization as described in Section 501(C)(3) of the Internal Revenue Code, or noncommercial educational broadcasting entity may submit a proposal. “Tribal education agencies” which may also apply include a school or community college which is controlled by an Indian tribe, band, or nation, which is recognized as eligible for special programs and services provided by the United States to Indians because of their status as Indians and which is not administered by the Bureau of Indian Affairs. These terms are defined in Section 3 of the Act and 40 CFR 47.105.

Applicant organizations must be located in the United States and the majority of the educational activities must take place in the United States, Canada and/or Mexico. A teacher's school district, an educator's nonprofit organization, or a faculty member's college or university may apply, but an individual teacher, educator, or faculty member may not. Tribal organizations also do not qualify unless they meet the criteria listed above.

G. Multiple or Repeat Proposals

An organization may submit more than one proposal if the proposals are for different projects. No organization will be awarded more than one grant for the same project during the same fiscal year. Applicants who received one of these grants in the past may submit a new proposal to expand a previously funded project or to fund an entirely different one. Each new proposal will be evaluated based upon the specific criteria set forth in this solicitation and in relation to the other proposals received in this fiscal year. Due to limited resources, EPA does not generally sustain projects beyond the initial grant period. This grant program is geared toward providing seed money to initiate new projects or to advance existing projects that are “new” in some way, such as reaching new audiences or new locations. If you have received a grant from this program in the past, it is essential that you explain how your current proposal is “new.”

H. Restrictions on Curriculum Development

EPA strongly encourages applicants to demonstrate or disseminate existing environmental education materials (curricula, training materials, activity books, etc.) rather than designing new materials, because experts indicate that a significant amount of quality educational materials have already been developed and are under-utilized. EPA will consider funding new materials only where the applicant demonstrates that there is a need, e.g., that existing educational materials cannot be adapted well to a particular local environmental concern or audience, or existing materials are not otherwise accessible. The applicant must specify what steps they have taken to determine this need, e.g., you may cite a conference where this need was discussed, the results of inquiries made within your community or with various educational institutions, or a research paper or other published document. Further, EPA recommends the use of a publication entitled Environmental Education Materials: Guidelines for Excellence which was developed in part with EPA funding. These guidelines contain recommendations for developing and selecting quality environmental education materials. On our website “www.epa.gov/enviroed/resources” you may view these guidelines and find information about ordering copies.

I. Ineligible Activities

Environmental education funds cannot be used for:

(1) Technical training of environmental management professionals;

(2) Environmental “information” projects that have no educational component, as described in Section I (B);

(3) Lobbying or political activities, in accordance with OMB Circulars A-21, A-87 and A-122;

(4) Non-educational research and development; or

(5) Construction projects EPA will not fund construction activities such as the acquisition of real property (e.g., buildings) or the construction or modification of any building. EPA may, however, fund activities such as creating a nature trail or building a bird watching station as long as these items are an integral part of the environmental education project, and the cost is a relatively small percentage of the total amount of federal funds requested.

Section III.—Funding Priorities

J. Educational Priorities

All proposals must satisfy the definition of “environmental education” under Section I(B) and also address one of the following educational priorities. Headquarters will fund the proposals for larger grants (over $25,000 in Federal funds) that address any of the top three categories listed below; and regional offices will fund grants in any of seven categories listed below. The order of the list is random and does not indicate a ranking. Please read the definitions that are included in this section to prevent your application from being rejected for failure to correctly address a priority.

Headquarters Priorities (Federal funds in excess of $25,000):

(1) Capacity Building: Increasing capacity to develop and deliver coordinated environmental education programs across a state or across multiple states.

(2) Education Reform: Utilizing environmental education as a catalyst to advance state, local, or tribal education reform goals.

(3) Community Issues: Designing and implementing model projects to educate the public about environmental issues and/or health issues in their communities through community-based organizations or through print, film, broadcast, or other media.

Regional Office Priorities ($25,000 or less in Federal funds):

(1-3) All of the Above

(4) Health: Educating teachers, students, parents, community leaders, or the public about human-health threats from environmental pollution, especially as it affects children, and how to minimize human exposure to preserve good health.

(5) Teaching Skills: Educating teachers, faculty, or nonformal educators about environmental issues to improve their environmental education teaching skills, e.g., through workshops.

(6) Career Development: Educating students in formal or nonformal settings about environmental issues to encourage environmental careers.

(7) Environmental Justice: Educating low-income or culturally-diverse audiences about environmental issues, thereby advancing environmental justice.

Definitions: The terms used above and in Section IV are defined as follows:

Capacity Building refers to developing effective leaders and organizations that design, implement, and link environmental education programs across a state or states to promote long-term sustainability of the programs. Effective efforts address both leadership and organizational needs, as well as coordination to decrease fragmentation of effort and duplication across programs. Coordination should involve all major education and environmental education providers (e.g. state education and natural resource agencies, tribal education agencies, schools and school districts, professional education associations, and nonprofit education and environmental education organizations). Examples of capacity building activities include identifying and assessing needs and setting priorities; identifying, evaluating and linking programs; developing and implementing strategic plans; identifying funding sources and resources; facilitating communication and networking; promoting sustained professional development; and sponsoring leadership seminars. For purposes of this definition, States and tribal lands are equivalent and thus capacity building can take place “across” either or both.

Note: Proposals must identify existing capacity building efforts, if any, and discuss how the proposed project will support these efforts.

Education Reform refers to state, local, or tribal efforts to improve student academic achievement. Where feasible, collaboration with private sector providers of technology and equipment is recommended. Education reform efforts often focus on changes in curriculum, instruction, assessment or how schools are organized. Curriculum and instructional changes may include inquiry and problem solving, real-world learning experiences, project-based learning, team building and group decision-making, and interdisciplinary study. Assessment changes may include developing content and performance standards and realigning curriculum and instruction to the new standards and new assessments. School site changes may include creating magnet schools or encouraging parental and community involvement.

Note: All proposals must identify existing educational improvement needs and goals and discuss how the proposed project will address these needs and goals.

Environmental issue is one of importance to the community, state, or region being targeted by the project, e.g., one community may have significant air pollution problems which makes teaching about human health effects from it and solutions to air pollution important, while rapid development in another community may threaten a nearby wildlife habitat, thus making habitat or ecosystem protection a high priority issue.

Environmental Justice refers to the fair treatment of people of all races, cultures, and income with respect to the development, implementation and enforcement of environmental laws, regulations, and policies. Fair treatment means that no racial, ethnic, or socioeconomic group should bear a disproportionate share of the negative environmental consequences that might result from the operation of industrial, municipal, and commercial enterprises and from the execution of federal, state, local, and tribal programs and policies.

Partnerships refers to the forming of a collaborative working relationship between two or more organizations such as governmental agencies, not-for-profit organizations, educational institutions, and/or the private sector. It may also refer to intra-organizational unions such as the science and art departments within a university collaborating on a project.

Wide application refers to a project that targets a large and diverse audience in terms of numbers or demographics; or that can serve as a model program elsewhere.

Section IV.—Requirements for Proposals and Matching Funds

K. Contents of Proposal and Scoring

The proposal must contain two standard federal forms, a work plan with budget, and appendices, as described below. Please follow instructions and do not submit additional items. EPA will make copies of your proposal for use by grant reviewers. Unnecessary attachments and forms create a paperwork burden for the reviewers.

Federal Forms: Application for Federal Assistance (SF-424) and Budget Information (SF-424A): The SF-424 and SF-424A are required for all federal grants and must be submitted as part of your proposal. These two forms, along with instructions and examples, are included at the end of this notice. Only finalists will be asked to submit additional federal forms needed to process their proposal.

Work Plan and Appendices: A work plan describes your proposed project and your budget. Appendices establish your timeline, your qualifications, and your partnerships with other organizations, where applicable. Include all five sections described below which will be evaluated and scored by reviewers. The highest possible score per proposal is 100 points as outlined in this section and in paragraph (N).

(1) Project Summary: Provide the following overview of your entire project in this format and on one page only:

(a) Organization: Describe: (1) your organization, and (2) list your key partners for this grant, if applicable. Partnerships are encouraged and considered to be a major factor in the success of projects.

(b) Summary Statement: Provide an overview of your project that explains the concept and your goals and objectives. This should be a very basic explanation in layman's terms to provide a reviewer with an understanding of the purpose and expected outcome of your educational project.

(c) Educational Priority: Identify which priority listed in Section III you will address, such as education reform. Proposals may address several educational priorities, however, EPA cautions against losing focus on projects. Evaluation panels often select projects with a clearly defined purpose, rather than projects that attempt to address multiple priorities at the expense of a quality outcome.

(d) Delivery Method: Explain how you will reach your audience, such as workshops, conferences, interactive programs, etc.

(e) Audience: Describe the demographics of your target audience including the number and types you expect to reach, such as, teachers, students, specific grade levels, ethnic composition, members of the general public, etc.

(f) Costs: List the types of activities for which the EPA portion of grant funds will be spent.

The project summary will be scored on how well you provide an overview of your entire project using the format and topics stated above.

Summary—Maximum Score: 10 Points

(2) Project Description: Describe precisely what your project will achieve—why, how, when, with what, and who will benefit. Explain each aspect of your proposal in enough detail to answer a grant reviewer's questions. This section is intended to provide you with the flexibility to be creative and does not require any specific format for describing your project. However, you should address the following to ensure that grant reviewers can fully comprehend and score your project. Address each criteria in any sequence that best demonstrates the strengths of your project.

This subsection will be scored on how well you design and describe your project and how effectively your project meets the following criteria:

(a) Why: Explain the purpose of your project and how it will address an educational priority listed in Section III, such as education reform or children's health; and address an environmental issue, such as clean air, ecosystem protection, or cross-cutting issues. Explain the importance to your community, state, or region. Specify if the project has the potential for wide application, and/or can serve as a model for use in other locations with a similar audience.

(b) Who: Explain who will conduct the project; identify the target audience and demonstrate an understanding of the needs of that audience (including cultural diversity where appropriate); explain your recruitment plan to attract your target audience; and clarify if you have incentives such as stipends or continuing education credits.

(c) How: Explain your strategy, objectives, activities, delivery methods, and outcomes to establish for reviewers that you have realistic goals and objectives and will use effective methods to achieve them. Clarify for the reviewers how you will complete all basic steps from beginning to end. Do not omit steps that lead up to or follow the actual delivery methods, e.g., if you plan to make a presentation about your project at a local or national conference, specify where.

(d) With What: Demonstrate that the project uses or produces quality educational products or methods that teach critical-thinking, problem-solving, and decision-making skills. (Please note restrictions on the development of curriculum and educational materials in Section H.)

Description—Maximum Score: 40 Points (10 Points for Each of (a) Through (d))

(3) Project Evaluation: Explain how you will ensure that you are meeting the goals and objectives of your project. Evaluation plans may be quantitative and/or qualitative and may include, for example, evaluation tools, observation, or outside consultation.

The project evaluation will be scored on how well your plan will: (a) measure the project's effectiveness; and (b) apply evaluation data gathered during your project to strengthen it.

Evaluation—Maximum Score: 10 Points (5 Points Each for (a) and (b))

(4) Budget and Timeframe: Clarify how EPA funds and non-federal matching funds will be used for specific items or activities, such as personnel/salaries, fringe benefits, travel, equipment, supplies, contract costs, and indirect costs. Include a table which lists each major proposed activity, and the amount of EPA funds and/or matching funds that will be spent on each activity. Smaller grants with uncomplicated budgets may have a table that lists only a few activities. Budget periods not to exceed one-year are preferred by EPA for all grants and are mandatory for small grants of $5,000 or less. Budget periods for larger grants cannot exceed two-years.

Please Note the following funding restrictions:

—Indirect costs may be requested only if your organization has already prepared an indirect cost rate proposal and has it on file, subject to audit.

—Funds for salaries and fringe benefits may be requested only for those personnel who are directly involved in implementing the proposed project and whose salaries and fringe benefits are directly related to specific products or outcomes of the proposed project. EPA strongly encourages applicants to request reasonable amounts of funding for salaries and fringe benefits to ensure that your proposal is competitive.

—EPA will not fund the acquisition of real property (including buildings) or the construction or modification of any building.

Matching Funds Requirement: Non-federal matching funds of at least 25% of the total cost of the project are required, and EPA encourages additional matching funds where possible. The match may be provided by the applicant or a partner organization or institution, and may be provided in cash or by in-kind contributions and other non-cash support. In-kind contributions often include salaries or other verifiable costs and this value must be carefully documented. In the case of salaries, applicants may use either minimum wage or fair market value. If the match is provided by a partner organization, the applicant is still responsible for proper accountability and documentation. All grants are subject to Federal audit.

Important: The matching non-federal share is a percentage of the entire cost of the project. For example, if the 75% federal portion is $10,000, then the entire project should, at a minimum, have a budget of $13,333, with the recipient providing a contribution of $3,333. To assure that your match is sufficient, simply divide the Federally requested amount by three. Your match must be at least one-third of the requested amount to be sufficient. For a $5,000 EPA grant your match cannot be less than $1,667.

Other Federal Funds: You may use other Federal funds in addition to those provided by this program, but not for activities that EPA is funding. You may not use any federal funds to meet any part of the required 25% match described above, unless it is specifically authorized by statute. If you have already been awarded federal funds for a project for which you are seeking additional support from this program, you must indicate those funds in the budget section of the work plan. You must also identify the project officer, agency, office, address, phone number, and the amount of the federal funds.

This subsection will be scored on: (a) how well the budget information clearly and accurately shows how funds will be used; (b) whether the funding request is reasonable given the activities proposed; and (c) whether the funding provides a good return on the investment.

Budget—Maximum Score: 15 points (5 Points for each of (a) Through (c))

(5) Appendices:

(a) Timeline—Include a “timeline” to link your activities to a clear project schedule and indicate at what point over the months of your budget period each action, event, product, development, etc. occurs.

(b) Key Personnel—Attach a one page resume for the key personnel conducting the project (Maximum of three resumes please).

(c) Letters of Commitment—If the applicant organization has partners, such as schools, state agencies, or other organizations, include one page letters of commitment from partners explaining their role in the proposed project. Do not include letters of endorsement or recommendation or have them mailed in later; they will not be considered in evaluating proposals.

Please do not submit other appendices or attachments such as video tapes or sample curricula. EPA may request such items if your proposal is among the finalists under consideration for funding.

This subsection will be scored based upon: (1) Whether the timeline clarifies the workplan and allows reviewers to determine that the project is well thought out and feasible as planned; (2) whether the key personnel are qualified to implement the proposed project; and (3) whether letters of commitment are included (if partners are used) and the extent to which a firm commitment is made.

Appendices—Maximum Score: 15 Points (5 Points Each (a) Through (c))

(6) Bonus Points: Reviewers have the flexibility to provide up to 10 bonus points for exceptional projects based on the following criteria. (a) A maximum of 5 bonus points for: addressing an educational priority or environmental issue well, strong partnerships, solid recruitment plan for teachers or other target audience, creative use of resources, innovation, or other strengths noted by the reviewers. (b) A maximum of 5 bonus points for a well explained and easily read proposal. Factors for points could include: clear and concise, well organized, no unnecessary jargon, or other strengths noted by the reviewers who evaluate and compare proposals.

Bonus Points—Maximum Score: 10 Points (5 Points Each for (a) and (b))

L. Page Limits

The Work Plan should not exceed 5 pages. “One page” refers to one side of a single-spaced typed page. The pages must be letter sized (8 ½ x 11 inches), with margins at least one-half inch wide and with normal type size (10 or 12 font), rather than extremely small type. This page limit applies to Parts 1, 2, and 3 of the Work Plan, (i.e., the Summary, Project Description, and Project Evaluation). Parts 4 and 5 (i.e. Budget and Appendices) are not included in these page limits.

M. Submission Requirements and Copies

The applicant must submit one original and one copy of the proposal (a signed SF-424, an SF-424A, a work plan, a budget, and the appendices listed above). Do not include other attachments such as cover letters, tables of contents, additional federal forms or appendices other than those listed above. Grant reviewers often lower scores on proposals for failure to follow instructions. The SF-424 should be the first page of your proposal and must be signed by a person authorized to receive funds. Blue ink for signatures is preferred. Proposals must be reproducible; they should not be bound. They should be stapled or clipped once in the upper left hand corner, on white paper, and with page numbers. Mailing addresses for submission of proposals are listed at the end of this document.

Section V.—Review and Selection Process

N. Proposal Review

Proposals submitted to EPA headquarters and regional offices will be evaluated using the same criteria, as defined here and in Section IV of this solicitation. Proposals will be reviewed in two phases—the screening phase and the evaluation phase. During the screening phase, proposals will be reviewed to determine whether they meet the basic requirements of this document. Only those proposals which meet all of the basic requirements will enter the full evaluation phase of the review process. During the evaluation phase, proposals will be evaluated based upon the quality of their work plans. Reviewers conducting the screening and evaluation phases of the review process will include EPA officials and external environmental educators approved by EPA. At the conclusion of the evaluation phase, the reviewers will score work plans based upon the scoring system described in more detail in Section IV. In summary, the maximum score of 100 points can be reached as follows:

(1) Project Summary—10 Points

(2) Project Description—40 Points

(3) Project Evaluation—10 Points

(4) Budget—15 Points

(5) Appendices—15 Points

(6) Bonus Points—10 Points (Only for outstanding proposals)

O. Final Selections

After individual projects are evaluated and scored by reviewers, as described under Section IV, EPA officials in the regions and at headquarters will select a diverse range of finalists from the highest ranking proposals. In making the final selections, EPA will take into account the following:

(1) Effectiveness of collaborative activities and partnerships, as needed to successfully develop or implement the project;

(2) Environmental and educational importance of the activity or product;

(3) Effectiveness of the delivery mechanism (i.e., workshop, conference, etc.);

(4) Cost effectiveness of the proposal; and

(5) Geographic distribution of projects.

P. Notification to Applicants

Applicants will receive a confirmation that EPA has received their proposal once EPA has received all proposals and entered them into a computerized database, usually within two months of receipt. EPA will contact finalists no later than early summer to request additional federal forms and other items as recommended by reviewers.

Section VI.—Grantees Responsibilities

Q. Responsible Officials

The Act requires that projects be performed by the applicant or by a person satisfactory to the applicant and EPA. All proposals must identify any person other than the applicant who will assist in carrying out the project. These individuals are responsible for receiving the grant award agreement from EPA and ensuring that all grant conditions are satisfied. Recipients are responsible for the successful completion of the project.

R. Incurring Costs

Grant recipients may begin incurring costs on the start date identified in the EPA grant award agreement. Activities must be completed and funds spent within the time frames specified in the document.

S. Reports and Work Products

Specific financial and other reporting requirements will be identified in the EPA grant award agreement. Grant recipients receiving more than $100,000 from EPA will be required to submit formal semi-annual progress reports; and grantees for less may be required to submit brief semi-annual reports. Grant recipients will submit two copies of their final report and two copies of all work products to the EPA project officer within 90 days after the expiration of the budget period. This report will be accepted as the final requirement unless the EPA project officer notifies you that changes must be made.

Section VII.—Resource Information and Mailing List

T. Internet: www.epa.gov/enviroed

Resources: Please visit our website where you can view and download this solicitation notice, tips for developing successful grant applications, descriptions of projects funded under this program by state, and other education links and resource materials. The “Excellence in EE” series of publications listed there includes guidelines for: developing and evaluating educational materials; the initial preparation of environmental educators; and using environmental education in grades K-12 to support state and local education reform goals. In addition, a tutorial for grant applicants is available at: www.epa.gov/seahome/grants/src/grant.htm

Forms: If you receive this solicitation electronically and if the standard federal forms for Application (SF-424) and Budget (SF-424A) cannot be printed by your equipment, you may locate them the following ways (but please read our instructions which have been modified for this grant program): The Federal Register in which this document is published contains the forms and is available to be copied at many public libraries; many federal offices use the forms and have copies available; or you may call or write the appropriate EPA office listed at the end of this document.

U. Other Funding

Please note that this is a very competitive grants program. Limited funding is available and many grant applications are expected to be received. Therefore, EPA cannot fund all applications. If your project is not funded, you may wish to review a listing of other EPA grant programs in the Catalog of Federal Domestic Assistance. This publication is available at local libraries, colleges, and universities.

V. Regulatory References

The Environmental Education Grant Program Regulations, published in the Federal Register on March 9, 1992, provides additional information on EPA's administration of this program (57 FR 8390; Title 40 CFR, part 47 or 40 CFR part 47). Also, EPA's general assistance regulations at 40 CFR part 31 applies to state, local, and Indian tribal governments and 40 CFR part 30 applies to all other applicants such as nonprofit organizations.

W. Classification of Notice

Under 5 U.S.C. 801(a)(1)(A) as added by the Small Business Regulatory Enforcement Fairness Act of 1996, EPA submitted a report containing this rule and other required information to the U.S. Senate, the U.S. House of Representatives, and the Comptroller General of the General Accounting Office prior to publication of this rule in today's Federal Register. This rule is not a “major rule” as defined by 5 U.S.C. 804 (2).

The Office of Management and Budget (OMB) has approved the information collection requirements contained in this solicitation under the provisions of the Paperwork Reduction Act, 44 U.S.C. 3501 et seq. and has assigned OMB control number 2030-0006.

X. Mailing List for Year 2002 Environmental Education Grants

EPA develops an entirely new mailing list for the grants program each year. The Fiscal Year 2002 mailing list will automatically include all applicants who submit proposals for a FY 2001 grant and anyone who specifically requests the next Solicitation Notice. If you do not submit a proposal for the year 2001 and wish to be added to our future mailing list, mail your request—please do not telephone—along with your name, organization, address, and phone number to: Environmental Education Grant Program (Year 2002), EPA Office of Environmental Education, (1704 A), 1200 Pennsylvania Avenue, NW, Washington, D.C. 20460.

Dated: August 25, 2000.
John Kasper,
Acting Deputy Associate Administrator, Office of Communications, Education, and Media Relations.

Mailing Addresses and Information

Applicants who need more information about this grant program or clarification about specific requirements in this Solicitation Notice, may contact the Environmental Education Office in Washington, D.C. for grant requests of more than $25,000 or their EPA regional office for grant requests of $25,000 or less.

U.S. EPA Headquarters—For Proposals Requesting More Than $25,000 From EPA

Mail proposals to: Environmental Education Grant Program, Office of Environmental Education (1704 A), 1200 Pennsylvania Avenue, NW, Washington, D.C. 20460.

Information: Diane Berger and Sheri Jojokian, (202) 260-8619.

U.S. EPA Regional Offices—For Proposals Requesting $25,000 or Less

Mail the proposal to the Regional Office where the project will take place, rather than where the applicant is located, if these locations are different.

EPA Region I—CT, ME, MA, NH, RI, VT

Mail proposals to: U.S. EPA, Region I, Enviro Education Grants (MGM), 1 Congress Street, Suite 1100, Boston, MA 02114.

Hand-deliver to: 10th Floor Mail Room, Boston, MA (M-F 8am-4pm).

Information: Kristen Conroy, (617) 918-1069.

EPA Region II—NJ, NY, PR, VI

Mail proposals to: U.S. EPA, Region II, Enviro Education Grants, Grants and Contracts Management Branch, 290 Broadway, 27th Floor, New York, NY 10007-1866.

Information: Teresa Ippolito, (212) 637-3671.

EPA Region III—DC, DE, MD, PA, VA, WV

Mail proposals to: U.S. EPA, Region III, Enviro Education Grants, Grants Management Section (3PM70), 1650 Arch Street, Philadelphia, PA 19103-2029.

Information: Nan Ides, (215) 814-5546.

EPA Region IV—AL, FL, GA, KY, MS, NC, SC, TN

Mail proposals to: U.S. EPA, Region IV, Enviro Education Grants, Office of External Affairs, 61 Forsyth Street, S.W., Atlanta, GA 30303.

Information: Benjamin Blair, (404) 562-8321.

EPA Region V—IL, IN, MI, MN, OH, WI

Mail proposals to: U.S. EPA, Region V, Enviro Education Grants, Grants Management Section (MC-10J), 77 West Jackson Boulevard, Chicago, IL 60604.

Information: Megan Gavin, (312) 353-5282.

Region VI—AR, LA, NM, OK, TX

Mail proposals to: U.S. EPA, Region VI, Enviro Education Grants (6XA), 1445 Ross Avenue, Dallas, TX 75202.

Information: Jo Taylor, (214) 665-2204.

Region VII—IA, KS, MO, NE

Mail proposal to: U.S. EPA, Region VII, Enviro Education Grants, Office of External Programs, 901 N. 5th Street, Kansas City, KS 66101.

Information: Denise Morrison, (913) 551-7402.

Region VIII—CO, MT, ND, SD, UT, WY

Mail proposals to: U.S. EPA, Region VIII, Enviro Education Grants, 999 18th Street (80C), Denver, CO 80202-2466.

Information: Cece Forget, (303) 312-6605.

Region IX—AZ, CA, HI, NV, American Samoa, Guam, Northern Marianas

Mail proposals to: U.S. EPA, Region IX, Enviro Education Grants, Commun. & Gov't Relations (CGR-3), 75 Hawthorne Street, San Francisco, CA 94105.

Information: Stacey Benfer, (415) 744-1161.

Region X—AK, ID, OR, WA

Mail proposals to: U.S. EPA, Region X, Enviro Education Grants, Public Environmental Resource Center, 1200 Sixth Avenue (EXA-124), Seattle, WA 98101

Information: Sally Hanft, (800) 424-4372, (206) 553-1207.

Instructions for the SF 424-Application

This is a standard Federal form to be used by applicants as a required face sheet for the Environmental Education Grants Program. These instructions have been modified for this program only and do not apply to any other Federal program.

1. Check the box marked “Non-Construction” under “Application.”

2. Date application submitted to Federal agency (or State if applicable) & applicant's control number (if applicable).

3. State use only (if applicable).

4. If you are currently funded for a related project, enter present Federal identifier number. If not, leave blank.

5. Legal name of applicant organization, name of primary organizational unit which will undertake the grant activity, complete address of the applicant organization, and name and telephone number of the person to contact on matters related to this application.

6. Enter Employer Identification Number (EIN) as assigned by the Internal Revenue Service. You can obtain this number from your payroll office. It is the same Federal Identification Number which appears on W-2 forms. If your organization does not have a number, you may obtain one by calling the Taxpayer Services number for the IRS.

7. Enter the appropriate letter in the space provided.

8. Check the box marked “new” since all proposals must be for new projects.

9. Enter U.S. Environmental Protection Agency.

10. Enter 66.951 Environmental Education Grants Program.

11. Enter a brief descriptive title of the project.

12. List only the largest areas affected by the project (e.g., State, counties, cities).

13. Self-explanatory (see Section IV, K4 in Solicitation Notice).

14. In (a) list the Congressional District where the applicant organization is located; and in (b) any District(s) affected by the program or project. If your project covers many areas, several congressional districts will be listed. If it covers the entire state, simply put in STATEWIDE. If you are not sure about the congressional district, call the County Voter Registration Department.

15. Amount requested or to be contributed during the funding/budget period by each contributor. Line (a) is for the amount of money you are requesting from EPA. Lines (b-e) are for the amounts either you or another organization are providing for this project. Line (f) is for any program income which you expect will be generated by this project. Examples of program income are fees for services performed, income generated from the sale of a brochure produced with the grant funds, or admission fees to a conference financed by the grant funds. The total of lines (b-e) must be at least 25% of line (g), as this grant has a match requirement of 25% of the Total Allowable Project Costs. Value of in-kind contributions should be included on appropriate lines as applicable. If both basic and supplemental amounts are included, show breakdown on an attached Budget sheet. For multiple program funding, use totals and show breakdown using same categories as item 15.

16. Check (b) (NO) since your application does not have to be sent through the state clearinghouse for review.

17. This question applies to the applicant organization, not the person who signs as the authorized representative. Categories of debt include delinquent audit disallowances, loans and taxes.

18. The authorized representative is the person who is able to contract or obligate your agency to the terms and conditions of the grant. (Please sign with blue ink.) A copy of the governing body's authorization for you to sign this application as official representative must be on file in the applicant's office.

Instructions for the SF-424A—Budget

This is a standard Federal form used by applicants as a basic budget. These instructions have been modified for this grant program only and do not apply to any other Federal Program. Do not fill in Section A—Budget Summary.

Complete Section B—Budget Categories—Columns (1), (2) and (5)

For each major program, function or activity, fill in the total requirements for funds by object class categories. Please round figures to the nearest dollar.

All applications should contain a breakdown by the relevant object class categories shown in Lines (a-h): columns (1), (2), and (5) of Section B. Include Federal funds in column (1) and non-Federal (matching) funds in column (2), and put the totals in column (5). Many applications will not have entries in all object class categories. Line 6(i)—Show the totals of lines 6(a) through 6(h) in each column. Line 6(j)—Show the amount of indirect costs, but ONLY if your organization has already prepared an “indirect cost rate” proposal and has it on file, subject to audit. Line 6(k)—Enter the total of amounts of Lines 6(i) and 6(j). Line 7—Program Income—Enter the estimated amount of income, if any, expected to be generated from this project. Do not add or subtract this amount from the total project amount. Describe the nature and source of income in the detailed budget description.

Detailed Itemization of Costs: The proposal must also contain a detailed budget description as specified in the Notice in Section IV, K4, and should conform to the following:

Personnel: List all participants in the project by position title. Give the percentage of the budget period for which they will be fully employed on the project (e.g., half-time for half the budget period equals 25%, full-time for half the budget period equals 50%, etc.). Give the annual salary and the total cost over the budget period for all personnel listed.

Travel: If travel is budgeted, show destination and purpose of travel as well as costs.

Equipment: Identify all equipment to be purchased and for what purpose it will be used.

Supplies: If the supply budget is less than 2% of total costs, you do not need to itemize.

Contractual: Specify the nature and cost of such services. EPA may require review of contracts for personal services prior to their execution to assure that all costs are reasonable and necessary to the project.

Construction: Not allowable for this program.

Other: Specify all other costs under this category.

Indirect Costs: Provide an explanation of how indirect charges were calculated for this project.

BILLING CODE 6560-50-P

[FR Doc. 00-22384 Filed 8-30-00; 8:45 am]

BILLING CODE 6560-50-C